DEPARTMENT OF VETERANS AFFAIRS

Geriatrics and Gerontology Advisory Group, Notice of Meeting; Cancellation

The Department of Veterans Affairs (VA) gives notice under the Federal Advisory Committee Act that a meeting of the Geriatrics and Gerontology Advisory Group (the Committee) that was scheduled for April 1, 2020 has been postponed. Details on a future meeting will be posted at a later date.

Dated: March 30, 2020.
LaTonya L. Small,
Federal Advisory Committee Management Officer.

[FR Doc. 2020-06903 Filed 4-1-20; 8:45 am]

BILLING CODE P